FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Coast Forwarding, LLC, 1616 Shakespeare Street, Baltimore, MD 21231. Officers: Stephen Billinghurst, Vice President (Qualifying Individual), Sean Smith, President.

Integrated Logistics Management Corporation, 7700 Irvine Center Drive, Suite #800, Irvine, CA 92618. Officer: Lisa Kuan, President (Qualifying Individual).

Central American Shipping Agency Inc., 19 Roosevelt Street, Freehold, NJ 07728. Officers: Gregory Centner, President (Qualifying Individual), Rosemary Centner, Treasurer.

Centrum Overseas Transport, Inc., 8109 Vine Wood Drive, North Richland Hills, TX 76180. Officers: Jason Hays, Secretary (Qualifying Individual), Debra Daniel, President.

Dean's International Shipping Co., Inc., 217-21 Merrick Blvd., Laurelton, NY 11413. Officer: Sharon Rose Deans, President (Qualifying Individual).

Oceanika Express, Inc., 8231 NW. 68th Street, Miami, FL 33166. Officers: Alejandrina T. Exposito, Partner (Qualifying Individual), Luis Suis Suarez, President.

Transnet Logistics, Inc., 1535 W. Walnut Parkway, Compton, CA 90220. Officer: Judy Soyeon Kim, CEO (Qualifying Individual).

Non-Vessel Operating Common Carrier and Ocean Freight Forwarder Transportation Intermediary Applicants

Global Cargo Expediters, Inc., 175-01 Rockaway Blvd., Suite 305, Jamaica, NY 11434. Officers: Scott Perroncino, Director (Qualifying Individual), Martin Huen, Vice President.

Zust Bachmeier of Switzerland, Inc., dba Vectura Ocean Lines, 3700 Commerce Drive #908, Baltimore, MD 21227. Officers: Thomas Graefe, President (Qualifying Individual), Robert M. Shoemaker, Exec. Vice President.

Horizon Auto Services, 15910 Mill Point Drive, Houston, TX 77059. Mardy Ann Schweitzer, Sole Proprietor.

United Logistics, Inc., 19921 Hinsdale Avenue, Torrance, CA 90503. Officers: (William) Tieth Ming Cheng, President (Qualifying Individual), Chia Hsiang Cheng, Treasurer.

Pasha Freight Systems, 5725 Paradise Drive, Suite 1000, Corte Madera, CA 94925. Officers: George W. Pasha, IV, President (Qualifying Individual), Dennis J. Kelly, Vice President.

Ocean Freight Forwarder—Ocean Transportation Intermediary Applicants

AmeriCorp, Inc., 16000 Dallas Parkway, Suite 400, Dallas, TX 75248. Officers: Louis Chesley Rast, Asst. Secretary (Qualifying Individual), Gail H. Plummer, President.

Overseas Shipping, 3713 S. George Mason Dr., #1308 W., Falls Church, VA 22041. Officer: Rima R. Saleh, Owner (Qualifying Individual).

Forward Tech Logistics Inc. dba FT Logistics, 10913 N.W. 30th Street, Suite 100, Miami, FL 33172. Officer: David Gonzalez, President (Qualifying Individual).

Dated: February 12, 2004.
Bryant L. VanBrakle,
Secretary.

[FR Doc. 04-3587 Filed 2-18-04; 8:45 am]

BILLING CODE 6730-01-P